DEPARTMENT OF COMMERCE

Bureau of Industry And Security

Order Renewing Order Temporarily Denying Export Privileges and Making That Temporary Denial of Export Privilges Applicable to an Additional Related Person

Mahan Airways, Mahan Tower, No. 21, Azadegan St., M.A. Jenah Exp. Way, Tehran, Iran

Zarand Aviation, a/k/a GIE Zarand Aviation, 42 Avenue Montaigne, 75008 Paris, France and 112 Avenue Kleber, 75116 Paris, France

Gatewick LLC, a/k/a Gatewick Freight & Cargo Services, a/k/a/Gatewick Aviation Services, G#22 Dubai Airport Free Zone, P.O. Box 393754, Dubai, United Arab Emirates and P.O. Box 52404, Dubai, United Arab Emirates and Mohamed Abdulla Alqaz Building, Al Maktoum Street, Al Rigga, Dubai, United Arab Emirates;

Pejman Mahmood Kosarayanifard, a/k/a Kosarian Fard, P.O. Box 52404, Dubai, United Arab Emirates; Mahmoud Amini, G#22 Dubai Airport Free Zone, P.O. Box 393754, Dubai, United Arab Emirates and P.O. Box 52404, Dubai, United Arab Emirates and Mohamed Abdulla Alqaz Building, Al Maktoum Street, Al Rigga, Dubai, United Arab Emirates

Kerman Aviation, a/k/a GIE Kerman Aviation, 42 Avenue Montaigne 75008, Paris, France

Sirjanco Trading. P.O. Box 8709, Dubai, United Arab Emirates

Ali Eslamian, 4th Floor, 33 Cavendish Square, London, W1G0PW, United Kingdom and 2 Bentinck Close, Prince Albert Road St. Johns Wood, London NW87RY, United Kingdom

Mahan Air General Trading LLC, 19th Floor Al Moosa Tower One Sheik Zayed Road, Dubai 40594, United Arab Emirates

Skyco (UK) Ltd., 4th Floor, 33 Cavendish Square, London, W1G 0PV, United Kingdom

Equipco (UK) Ltd., 2 Bentinck Close, Prince Albert Road, London, NW8 7RY, United Kingdom

Mehdi Bahrami, Mahan Airways—Istanbul Office, Cumhuriye Cad. Sibil Apt No: 101 D:6, 34374 Emadad, Sisli Istanbul, Turkey

Pursuant to Section 766.24 of the Export Administration Regulations, 15 CFR parts 730-774 (2012) (“EAR” or the “Regulations”), I hereby grant the request of the Office of Export Enforcement (“OEE”) to renew the August 9, 2012 Order Temporarily Denying the Export Privileges of Mahan Airways, Zarand Aviation, Gatewick LLC, Pejman Mahmood Kosarayanifard, Mahmoud Amini, Kerman Aviation, Sirjanco Trading LLC, Ali Eslamian, Mahan Air General Trading LLC, Skyco (UK) Ltd., and Equipco (UK) Ltd. I find that renewal of the Temporary Denial Order (“TDO”) is necessary in the public interest to prevent an imminent violation of the EAR. Additionally, pursuant to Section 766.23 of the Regulations, including the provisions of notice and an opportunity to respond, I find it necessary to add the following person as a related person in order to prevent evasion of the TDO:

Mehdi Bahrami, Mahan Airways—Istanbul Office, Cumhuriye Cad. Sibil Apt No: 101 D:6, 34374 Emadad, Sisli Istanbul, Turkey

I. Procedural History

On March 17, 2008, Darryl W. Jackson, the then-Assistant Secretary of Commerce for Export Enforcement (“Assistant Secretary”), signed a TDO denying Mahan Airways' export privileges for a period of 180 days on the grounds that its issuance was necessary in the public interest to prevent an imminent violation of the Regulations. The TDO also named as denied persons Blue Airways, of Yerevan, Armenia (“Blue Airways of Armenia”), as well as the “Balli Group Respondents,” namely, Balli Group PLC, Balli Aviation, Balli Holdings, Vahid Alaghband, Hassan Alaghband, Blue Sky One Ltd., Blue Sky Two Ltd., Blue Sky Three Ltd., Blue Sky Four Ltd., Blue Sky Five Ltd., and Blue Sky Six Ltd., all of the United Kingdom. The TDO was issued ex parte pursuant to Section 766.24(a), and went into effect on March 21, 2008, the date it was published in the Federal Register.

The TDO subsequently has been renewed in accordance with Section 766.24(d), including most recently on August 9, 2012, with modifications and the additions of related persons having been made to the TDO during 2010, 2011, and most recently on April 9, 2012.¹ As of March 9, 2010, the Balli Group Respondents and Blue Airways were no longer subject to the TDO. As part of the February 25, 2011 TDO renewal, Gatwick LLC, Mahmoud Amini, and Pejman Mahmood Kasarayanifard (“Kosarian Fard”) were added as related persons in accordance with Section 766.23 of the Regulations. On July 1, 2011, the TDO was modified by adding Zarand Aviation as a respondent in order to prevent an imminent violation. Specifically, Zarand Aviation owned an Airbus A310 subject to the Regulations that was being operated for the benefit of Mahan Airways in violation of both the TDO and the Regulations. As part of the August 24, 2011 renewal, Kerman Aviation, Sirjanco Trading LLC, and Ali Eslamian were added to the TDO as related persons. Mahan Air General Trading LLC, Skyco (UK) Ltd., and Equipco (UK) Ltd. were added as related persons on April 9, 2012.

¹ The August 9, 2012 Order was published in the Federal Register on August 15, 2012. See 77 F.R. 48,960 (Aug. 15, 2012. The TDO previously had been renewed on September 17, 2008, March 16, 2009, September 11, 2009, March 9, 2010, September 3, 2010, February 25, 2011, August 24, 2011, and February 15, 2012. The August 24, 2011 renewal followed the modification of the TDO on July 1, 2011, which added Zarand Aviation as a respondent. Each renewal or modification order was published in the Federal Register.

On January 15, 2013, BIS, through its Office of Export Enforcement (“OEE”), submitted a written request for renewal of the TDO. The current TDO dated August 9, 2012, will expire on February 4, 2013, unless renewed on or before that date. Notice of the renewal request was provided to Mahan Airways and Zarand Aviation by delivery of a copy of the request in accordance with Sections 766.5 and 766.24(d) of the Regulations. No opposition to any aspect of the renewal of the TDO has been received from either Mahan Airways or Zarand Aviation. Furthermore, no appeal of the related person determinations I made as part of the September 3, 2010, February 25, 2011, August 24, 2011, and April 9, 2012 renewal or modification orders has been made by Gatewick LLC, Kosarian Fard, Mahmoud Amini, Kerman Aviation, Sirjanco Trading LLC, Ali Eslamian, Mahan Air General Trading LLC, Skyco (UK) Ltd., or Equipco (UK) Ltd.²

² A party named or added as a related person may not oppose the issuance or renewal of the underlying temporary denial order, but may file an appeal of the related person determination in accordance with Section 766.23(c).

II. Renewal of the TDO

A. Legal Standard

Pursuant to Section 766.24, BIS may issue or renew an order temporarily denying a respondent's export privileges upon a showing that the order is necessary in the public interest to prevent an “imminent violation” of the Regulations. 15 CFR 766.24(b)(1) and 776.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that “the violation under investigation or charges is significant, deliberate, covert and/or likely to occur again, rather than technical or negligent [.]” Id. A “lack of information establishing the precise time a violation may occur does not preclude a finding that a violation is imminent, so long as there is sufficient reason to believe the likelihood of a violation.” Id.

B. The TDO and BIS's Request for Renewal

OEE's request for renewal is based upon the facts underlying the issuance of the initial TDO and the TDO renewals in this matter and the evidence developed over the course of this investigation indicating a blatant disregard of U.S. export controls and the TDO. The initial TDO was issued as a result of evidence that showed that Mahan Airways and other parties engaged in conduct prohibited by the EAR by knowingly re-exporting to Iran three U.S.-origin aircraft, specifically Boeing 747s (“Aircraft 1-3”), items subject to the EAR and classified under Export Control Classification Number (“ECCN”) 9A991.b, without the required U.S. Government authorization. Further evidence submitted by BIS indicated that Mahan Airways was involved in the attempted re-export of three additional U.S.-origin Boeing 747s (“Aircraft 4-6”) to Iran.

As discussed in the September 17, 2008 TDO Renewal Order, evidence presented by BIS indicated that Aircraft 1-3 continued to be flown on Mahan Airways' routes after issuance of the TDO, in violation of the Regulations and the TDO itself.³ It also showed that Aircraft 1-3 had been flown in further violation of the Regulations and the TDO on the routes of Iran Air, an Iranian Government airline. Moreover, as discussed in the March 16, 2009, September 11, 2009 and March 9, 2010 Renewal Orders, Mahan Airways registered Aircraft 1-3 in Iran, obtained Iranian tail numbers for them (including EP-MNA and EP-MNB), and continued to operate at least two of them in violation of the Regulations and the TDO,⁴ while also committing an additional knowing and willful violation of the Regulations and the TDO when it negotiated for and acquired an additional U.S.-origin aircraft. The additional acquired aircraft was an MD-82 aircraft, which subsequently was painted in Mahan Airways' livery and flown on multiple Mahan Airways' routes under tail number TC-TUA.

³ Engaging in conduct prohibited by a denial order violates the Regulations. 15 CFR 764.2(a) and (k).

⁴ The third Boeing 747 appeared to have undergone significant service maintenance and may not have been operational at the time of the March 9, 2010 Renewal Order.

The March 9, 2010 Renewal Order also noted that a court in the United Kingdom (“U.K.”) had found Mahan Airways in contempt of court on February 1, 2010, for failing to comply with that court's December 21, 2009 and January 12, 2010 orders compelling Mahan Airways to remove the Boeing 747s from Iran and ground them in the Netherlands. Mahan Airways and the Balli Group Respondents had been litigating before the U.K. court concerning ownership and control of Aircraft 1-3. In a letter to the U.K. court dated January 12, 2010, Mahan Airways' Chairman indicated, inter alia, that Mahan Airways opposes U.S. Government actions against Iran, that it continued to operate the aircraft on its routes in and out of Tehran (and had 158,000 “forward bookings” for these aircraft), and that it wished to continue to do so and would pay damages if required by that court, rather than ground the aircraft.

The September 3, 2010 Renewal Order discussed the fact that Mahan Airways' violations of the TDO extended beyond operating U.S.-origin aircraft in violation of the TDO and attempting to acquire additional U.S.-origin aircraft. In February 2009, while subject to the TDO, Mahan Airways participated in the export of computer motherboards, items subject to the Regulations and designated as EAR99, from the United States to Iran, via the United Arab Emirates (“UAE”), in violation of both the TDO and the Regulations, by transporting and/or forwarding the computer motherboards from the UAE to Iran. Mahan Airways' violations were facilitated by Gatewick LLC, which not only participated in the transaction, but also has stated to BIS that it is Mahan Airways' sole booking agent for cargo and freight forwarding services in the UAE.

Moreover, in a January 24, 2011 filing in the U.K. court, Mahan Airways asserted that Aircraft 1-3 were not being used, but stated in pertinent part that the aircraft were being maintained in Iran especially “in an airworthy condition” and that, depending on the outcome of its U.K. court appeal, the aircraft “could immediately go back into service * * *;. on international routes into and out of Iran.” Mahan Airways' January 24, 2011 submission to U.K. Court of Appeal, at p. 25, ¶¶ 108, 110. This clearly stated intent, both on its own and in conjunction with Mahan Airways' prior misconduct and statements, demonstrated the need to renew the TDO in order to prevent imminent future violations.⁵

⁵ Two of these three 747s have since been removed from Iran and are no longer in Mahan Airways' possession. The third remains in Iran under Mahan's control.

More recently, as noted in the July 1, 2011 and August 24, 2011 Orders, Mahan Airways has continued to evade U.S. export control laws by operating two Airbus A310 aircraft ⁶ bearing Mahan Airways' livery, colors and logo, on flights into and out of Iran. The aircraft are owned, respectively, by Zarand Aviation and Kerman Aviation, entities whose corporate registrations both list Mahan Air General Trading as a member of their Groupement D'interet Economique (“Economic Interest Group”).⁷

⁶ The Airbus A310s are powered with U.S.-origin engines. The engines are subject to the EAR and classified under Export Control Classification (“ECCN”) 9A991.d. The Airbus A310s contain controlled U.S.-origin items valued at more than 10 percent of the total value of the aircraft and as a result are subject to the EAR. They are classified under ECCN 9A991.b. The reexport of these aircraft to Iran requires U.S. Government authorization pursuant to Section 746.7 of the Regulations.

⁷ Kerman Aviation's corporate registration also lists Mahan Aviation Services Company as an additional member of its Economic Interest Group.

At the time of the July 1, 2011 and August 24, 2011 Orders, these Airbus A310s were registered in France, with tail numbers F-OJHH and F-OJHI, respectively. OEE subsequently presented evidence that after the August 24, 2011 renewal, Mahan Airways and Zarand Aviation worked in concert, along with Kerman Aviation, to de-register the two Airbus A310 aircraft in France and to register both aircraft in Iran (with, respectively, Iranian tail numbers EP-MHH and EP-MHI). It was determined subsequent to the February 15, 2012 renewal that the registration switch for these A310s was cancelled; however, both aircraft continued to actively fly for Mahan Airways under the original French tail numbers.

The August 2012 Renewal Order found that Mahan Airways had acquired an additional Airbus A310 aircraft (Manufacturer Serial Number 499) with the Iranian registered tail number EP-VIP, in violation of the TDO.⁸ Open source information submitted by OEE indicated that an A310 with a German Air Force designation of 10-22 had served as the German “presidential” aircraft and had been sold in Germany as surplus in late 2011, then re-sold shortly thereafter to what was identified as an Eastern European investment group, and then re-sold again and transported to Mahan Airways in Iran via the Ukraine. This acquisition and reexport by and/or for Mahan Airways violated the TDO and the Regulations.

⁸ The Airbus A310 is powered with U.S.-origin engines. The engines are subject to the EAR and classified under Export Control Classification (“ECCN”) 9A991.d. The Airbus A310 contains controlled U.S.-origin items valued at more than 10 percent of the total value of the aircraft and as a result is subject to the EAR. The aircraft is classified under ECCN 9A991.b. The reexport of this aircraft to Iran requires U.S. Government authorization pursuant to Section 746.7 of the Regulations.

The August 2012 Renewal Order also discussed additional evidence relating to efforts by related persons, including Ali Eslamian, to procure aircraft and aircraft parts for Mahan Airways in violation of the TDO and the Regulations. OEE's January 15, 2013 renewal request similarly presents further evidence of continued and additional violations, including continuing efforts by Mahan Airways and others persons acting in concert with Mahan to procure U.S.-origin engines and other aircraft parts subject to the Regulations.

OEE's current submission includes evidence showing that in July 2012, a Turkish company (“Turkish Company No. 1”) purchased a U.S.-origin Turbojet aircraft engine (Serial Number 517-621) for Mahan Airways from a U.S company. To prevent the engine from being delivered to Mahan Airways, OEE issued a redelivery order to the freight forwarder on July 25, 2012, in accordance with Section 758.8 of the Regulations.⁹ The freight forwarder returned the item to the United States from Turkey. In or about July and August 2012, Turkish Company No. 1 attempted to acquire for reexport to Mahan another U.S.-origin aircraft engine (Serial number 517-738), which had previously been exported from the United States. OEE promptly issued a redelivery order for this engine to Turkish Company No. 1 on July 30, 2012. Subsequent to the August 2012 Renewal Order, the owner of that engine cancelled the sale and retained the engine. In September 2012, OEE was alerted by a U.S. exporter that another Turkish company (“Turkish Company No. 2”) was attempting to purchase aircraft spare parts intended for re-export by Turkish Company No. 2 to Mahan Airways.

⁹ The renewal request that led to the renewal of this TDO on August 9, 2012, was submitted before OEE detected this shipment and issued the redelivery order.

In addition to these similar, repeated attempts to evade the TDO and obtain U.S.-origin aircraft engines and parts, Mahan Airways also has continued to operate multiple aircraft in violation of the TDO and the Regulations. The two A310s that bear the tail numbers F-OJHH and F-OJHI and are owned by Zarand Aviation and Kerman Aviation, respectively, remain listed in active operation in Mahan Airways' fleet, and other recent open source information indicates that these aircraft have continued to be flown in and out of Iran. On September 19, 2012, both aircraft were designated as Specially Designated Global Terrorists (SDGT) by the U.S. Department of the Treasury's Office of Foreign Assets Control (“OFAC”) pursuant to Executive Order 13324. See http://www.treasury.gov/resource-center/sanctions/OFAC-Enforcement/pages/20120919.aspx.¹⁰

¹⁰ Mahan Airways was designated by OFAC as a SDGT on October 18, 2011. 77 Fed. Reg. 64,427 (October 18, 2011).

A U.S.-origin Boeing 747 (MSN 23480) bearing the Iranian tail number EP-MNE also remains listed in active operation in Mahan Airways' fleet. Open source information indicates that this 747, which also was designated by OFAC as a SDGT on September 19, 2012, is painted in the livery and logo of Mahan Airways, has been flown between Iran and Syria, and is suspected of ferrying weapons and/or other equipment to the Syrian Government from Iran's Islamic Revolutionary Guard Corps. The unlicensed reexport of this aircraft to Iran and Syria not only violates both the TDO and the Regulations, but also further damages U.S. national security and foreign policy interests to the extent this misconduct has provided weapons or other support to the Assad regime in Syria or advanced Iranian interests there or in the region.

C. Findings

Under the applicable standard set forth in Section 766.24 of the Regulations and my review of the entire record, I find that the evidence presented by BIS convincingly demonstrates that Mahan Airways has continually violated the EAR and the TDO, that such knowing violations have been significant, deliberate and covert, and that there is a likelihood of future violations. Additionally, Zarand Aviation's Airbus A310 continues to be operated in violation of the TDO. Therefore, renewal of the TDO is necessary to prevent imminent violation of the EAR and to give notice to companies and individuals in the United States and abroad that they should continue to cease dealing with Mahan Airways, Zarand Aviation, and the other denied persons under the TDO in export transactions involving items subject to the EAR.

III. Addition of Related Person

Pursuant to Sections 766.23 and 766.24(c) of the Regulations, OEE has requested that Mehdi Bahrami be added to the TDO as related person to Mahan Airways, in order to prevent evasion of the TDO.

A. Legal Standard

Section 766.23 of the Regulations provides that “[i]n order to prevent evasion, certain types of orders under this part may be made applicable not only to the respondent, but also to other persons then or thereafter related to the respondent by ownership, control, position of responsibility, affiliation, or other connection in the conduct of trade or business. Orders that may be made applicable to related persons include those that deny or affect export privileges, including temporary denial orders * * * .” 15 CFR 766.23(a). See also 15 CFR 766.24(c) (“A temporary denial order may be made applicable to related persons in accordance with § 766.23 of this part.”).

B. Analysis and Findings

Via a notice letter sent in accordance with Section 766.23 of the Regulations on December 31, 2012, OEE provided Mr. Bahrami with notice of its intent to seek an order adding him to the TDO as a related person to Mahan Airways, in order to prevent evasion. No response has been received from Bahrami.

OEE has presented evidence that Bahrami is a Mahan Airways' Vice-President and Regional Manager for Turkey and Europe, and is based in Mahan Airways' Istanbul office. As discussed supra, Mahan Airways has made repeated recent attempts to evade the TDO by procuring, via Turkey, U.S.-origin aircraft engines and other aircraft parts in violation of the TDO and the Regulations. In addition, as summarized supra, Mahan Airways previously procured an A310 subject to the Regulations from Germany, via the Ukraine.

OEE also has presented evidence showing that Bahrami was at least aware of Ali Eslamian's attempt to procure a U.S.-origin aircraft engine from Brazil, via Turkey, for Mahan Airways, as described in detail in the August 9, 2012 Renewal Order.¹¹ OEE also has obtained and submitted a copy of a witness statement signed and dated by Bahrami as of May 31, 2009, that was entered into evidence by Mahan Airways in the U.K. litigation between Mahan and the Balli Group regarding Aircraft 1-3. In that witness statement, Bahrami testified, inter alia, that he had joined Mahan in Airways in 1997 and that, in addition to his positions directly with Mahan Airways, he was the director and sole shareholder of Blue Sky Aviation FZE, which he stated “[was] and always [had] been, for all purposes owned and controlled by Mahan Air.” Bahrami Witness Statement, at ¶¶ 1-2, 4. He further testified that Blue Sky Aviation FZE's “role in the acquisition of three Boeing 747[s] is clear and obvious from all the documents signed on its behalf[,]” that it had “acted at all times on the instructions of senior management at Mahan and got full legal tile to the three Boeing 747 aircraft in October 2008[,]” and thereafter had “dry leased the aircraft to Mahan Air[.]” Id., at ¶¶ 5-6.

¹¹ Among other things, Eslamian signed a letter of intent with a Brazilian airline on November 20, 2009, and subsequently signed a sales and purchase agreement for the engine in April 2010. Eslamian's efforts to acquire the engine for Mahan Airways continued at least as recently as December 2011.

Given Bahrami's management position with regard to Mahan Airways' operations in Turkey and Europe and Mahan's continuing efforts to procure U.S.-origin aircraft and engines from or via Turkey and Europe, as well as Bahrami's prior role in the acquisition and leasing to Mahan of the three Boeing 747s (Aircraft 1-3) that originated this TDO, and his demonstrated, long-standing willingness to act in concert with and at the direction of Mahan's senior management in Tehran, it is clear that he is a related person to Mahan and that a significant risk of evasion and further violations exist absent his addition to the TDO.

In sum, I find pursuant to Section 766.23 that Mehdi Bahrami is a related person to Mahan Airways and that his addition to the TDO is necessary to prevent evasion of the TDO.

IV. Order

It is therefore ordered:

First, that MAHAN AIRWAYS, Mahan Tower, No. 21, Azadegan St., M.A. Jenah Exp. Way, Tehran, Iran; ZARAND AVIATION A/K/A GIE ZARAND AVIATION, 42 Avenue Montaigne, 75008 Paris, France, and 112 Avenue Kleber, 75116 Paris, France; GATEWICK LLC, A/K/A GATEWICK FREIGHT & CARGO SERVICES, A/K/A GATEWICK AVIATION SERVICE, G#22 Dubai Airport Free Zone, P.O. Box 393754, Dubai, United Arab Emirates, and P.O. Box 52404, Dubai, United Arab Emirates, and Mohamed Abdulla Alqaz Building, Al Maktoum Street, Al Rigga, Dubai, United Arab Emirates; PEJMAN MAHMOOD KOSARAYANIFARD A/K/A KOSARIAN FARD, P.O. Box 52404, Dubai, United Arab Emirates; MAHMOUD AMINI, G#22 Dubai Airport Free Zone, P.O. Box 393754, Dubai, United Arab Emirates, and P.O. Box 52404, Dubai, United Arab Emirates, and Mohamed Abdulla Alqaz Building, Al Maktoum Street, Al Rigga, Dubai, United Arab Emirates; KERMAN AVIATION A/K/A GIE KERMAN AVIATION, 42 Avenue Montaigne 75008, Paris, France; SIRJANCO TRADING LLC, P.O. Box 8709, Dubai, United Arab Emirates; ALI ESLAMIAN, 4th Floor, 33 Cavendish Square, London W1G0PW, United Kingdom, and 2 Bentinck Close, Prince Albert Road St. Johns Wood, London NW87RY, United Kingdom; MAHAN AIR GENERAL TRADING LLC, 19th Floor Al Moosa Tower One, Sheik Zayed Road, Dubai 40594, United Arab Emirates; SKYCO (UK) LTD., 4th Floor, 33 Cavendish Square, London, W1G 0PV, United Kingdom; EQUIPCO (UK) LTD., 2 Bentinck Close, Prince Albert Road, London, NW8 7RY, United Kingdom; and MEDHI BAHRAMI,, Mahan Airways- Istanbul Office, Cumhuriye Cad. Sibil Apt No: 101 D:6, 34374 Emadad, Sisli Istanbul, Turkey, and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing. THIRD, that, after notice and opportunity for comment as provided in section 766.23 of the EAR, any other person, firm, corporation, or business organization related to a Denied Person by affiliation, ownership, control, or position of responsibility in the conduct of trade or related services may also be made subject to the provisions of this Order. FOURTH, that this Order does not prohibit any export, reexport, or other transaction subject to the EAR where the only items involved that are subject to the EAR are the foreign-produced direct product of U.S.-origin technology.

In accordance with the provisions of Sections 766.24(e) of the EAR, Mahan Airways and/or Zarand Aviation may, at any time, appeal this Order by filing a full written statement in support of the appeal with the Office of the Administrative Law Judge, U.S. Coast Guard ALJ Docketing Center, 40 South Gay Street, Baltimore, Maryland 21202-4022. In accordance with the provisions of Sections 766.23(c)(2) and 766.24(e)(3) of the EAR, Gatewick LLC, Mahmoud Amini, Kosarian Fard, Kerman Aviation, Sirjanco Trading LLC, Ali Eslamian, Mahan Air General Trading LLC, Skyco (UK) Ltd., Equipco (UK) Ltd., and/or Medhi Bahrami may, at any time, appeal their inclusion as a related person by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. A renewal request may be opposed by Mahan Airways and/or Zarand Aviation as provided in Section 766.24(d), by filing a written submission with the Assistant Secretary of Commerce for Export Enforcement, which must be received not later than seven days before the expiration date of the Order.

A copy of this Order shall be provided to Mahan Airways, Zarand Aviation and each related person and shall be published in the Federal Register. This Order is effective immediately and shall remain in effect for 180 days.

Dated: February 4, 2013.
David W. Mills,
Assistant Secretary of Commerce for Export Enforcement.

[FR Doc. 2013-02867 Filed 2-7-13; 8:45 am]

BILLING CODE P